NATIONAL COUNCIL ON DISABILITY

Sunshine Act Meetings

Type: Quarterly meeting.

Date and Times: July 25, 2005, 9 a.m.-5 p.m.

July 27, 2005, 9 a.m.-12 p.m.

Location: The Ritz-Carlton, Pentagon City, 1250 South Hayes Street, Arlington, VA.

Status: This meeting will be open to the public.

Agenda: Reports from the Chairperson and the Executive Director, Team Reports, Americans with Disabilities Act (ADA) Impact Forums Update, Unfinished Business, New Business, Announcements, Adjournment.

Type: ADA 15th Anniversary Federal Partners Seminar.

Date and Time: July 26, 2005, 9 a.m.-1 p.m.

Location: Marriott at Metro Center, 775 12th Street, NW., Washington, DC.

Status: This meeting will be open to the public.

Agenda: Opening Plenary Session, ADA-related panel discussions, Closing Plenary Session.

Sunshine Act Meeting Contact: Mark S. Quigley, Director of Communications, NCD, 1331 F Street, NW., Suite 850, Washington, DC 20004; (202) 272-2004 (voice), (202) 272-2074 (TTY), (202) 272-2022 (fax), mquigley@ncd.gov (e-mail).

Agency Mission: NCD is an independent Federal agency making recommendations to the President and Congress to enhance the quality of life for all Americans with disabilities and their families. NCD is composed of 15 members appointed by the President and confirmed by the U.S. Senate.

Accommodations: Those needing reasonable accommodations should notify NCD at least two weeks before these meetings.

Language Translation: In accordance with E.O. 13166, Improving Access to Services for Persons with Limited English Proficiency, those people with disabilities who are limited English proficient and seek translation services for these meetings should notify NCD at least two weeks before these meetings.

Multiple Chemical Sensitivity/Environmental Illness: People with multiple chemical sensitivity/environmental illness must reduce their exposure to volatile chemical substances to attend these meetings. To reduce such exposure, NCD requests that attendees not wear perfumes or scented products at these meetings. Smoking is prohibited in meeting rooms and surrounding areas.

Dated: May 6, 2005.
Ethel D. Briggs,
Executive Director.

[FR Doc. 05-9473 Filed 5-9-05; 12:06 pm]

BILLING CODE 6820-MA-P